DEPARTMENT OF THE INTERIOR

Bureau of Safety and Environmental Enforcement

[Docket ID BSEE-2013-0010; OMB Control Number 1014-0012; 134E1700D2 EEEE500000 ET1SF0000.DAQ000]

Information Collection Activities: Open and Nondiscriminatory Access to Oil and Gas Pipelines Under the OCS Lands Act; Proposed Collection; Comment Request

ACTION: 60-day Notice.

SUMMARY: To comply with the Paperwork Reduction Act of 1995 (PRA), Bureau of Safety and Environmental Enforcement (BSEE) is inviting comments on a collection of information that we will submit to the Office of Management and Budget (OMB) for review and approval. The information collection request (ICR) concerns a renewal to the paperwork requirements in the regulations under 30 Part 291, Open and Nondiscriminatory Access to Oil and Gas Pipelines Under the OCS Lands Act.

DATES: You must submit comments by January 17, 2014.

ADDRESSES: You may submit comments by either of the following methods listed below.

• Electronically: go to http://www.regulations.gov. In the Search box, enter BSEE-2013-0010 then click search. Follow the instructions to submit public comments and view all related materials. We will post all comments.

• Email nicole.mason@bsee.gov. Mail or hand-carry comments to the Department of the Interior; BSEE; Regulations and Standards Branch; Attention: Nicole Mason; 381 Elden Street, HE3313; Herndon, Virginia 20170-4817. Please reference ICR 1014-0012 in your comment and include your name and return address.

FOR FURTHER INFORMATION CONTACT: Nicole Mason, Regulations and Standards Branch at (703) 787-1605 to request additional information about this ICR.

SUPPLEMENTARY INFORMATION: Title: 30 CFR Part 291, Open and Nondiscriminatory Access to Oil and Gas Pipelines Under the OCS Lands Act.

OMB Control Number: 1014-0012.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1334(f)(1) states “Except as provided in paragraph (2), every permit, license, easement, right-of-way, or other grant of authority for the transportation by pipeline on or across the Outer Continental Shelf of oil or gas shall require that the pipeline be operated in accordance with the following competitive principles: (A) The pipeline must provide open and nondiscriminatory access to both owner and non-owner shippers.”

The Independent Offices Appropriations Act (31 U.S.C. 9701), the Omnibus Appropriations Bill (Pub. L. 104-133, 110 Stat. 1321, April 26, 1996), and OMB Circular A-25, authorize Federal agencies to recover the full cost of services that confer special benefits. Regulations at §§ 291.106(b) and 108 require a nonrefundable processing fee of $7,500 that a shipper must pay when filing a complaint to BSEE. Federal policy and statute require us to recover the cost of services that confer special benefits to identifiable non-Federal recipients.

These authorities and responsibilities are among those delegated to BSEE; and 30 CFR Part 291 implements these statutory requirements. These regulations concern open and nondiscriminatory access to pipelines, and are the subject of this collection.

The BSEE will use the submitted information to initiate a more detailed investigation into the specific circumstances associated with a complainant's allegation of denial of access or discriminatory access to pipelines on the OCS. The complaint information will be provided to the alleged offending party. Informal resolution of the complaint is an option via a hotline or alternative dispute resolution. The BSEE may request additional information upon completion of the initial investigation.

Commercial or financial information submitted to the Department of the Interior relative to minerals removed from the Federal OCS may be proprietary. The BSEE will protect information considered proprietary and will not disclose documents exempt from disclosure under the Freedom of Information Act (5 U.S.C. 552) and its implementing regulations (43 CFR part 2). The BSEE will protect personally identifiable information about individuals according to the Privacy Act (5 U.S.C. 552a) and DOI's implementing regulations (43 CFR part 2). No items of a sensitive nature are collected. Responses to this ICR are required to obtain and retain a benefit, or are voluntary.

Frequency: On occasion.

Description of Respondents: Shippers who do business on the OCS and companies that pay royalties on the OCS.

Estimated Reporting and Recordkeeping Hour Burden: The currently approved annual reporting burden for this collection is 51 hours. The following chart details the individual components and respective hour burden estimates of this ICR. In calculating the burdens, we assumed that respondents perform certain requirements in the normal course of their activities. We consider these to be usual and customary and took that into account in estimating the burden.

Burden Breakdown
Citation 30 CFR 291 | Reporting & recordkeeping requirement | Hour burden: Non-hour cost burden
105, 106, 108, 109, 111 | Submit complaint (with fee) to BSEE and affected parties. Request confidential treatment and respond to BSEE decision | 50
|  | $7,500 processing fee
106(b), 109 | Request waiver or reduction of fee | 1
104(b), 107, 111 | Submit response to a complaint. Request confidential treatment and respond to BSEE decision | Information that is required after an investigation is opened against a specific entity is exempt under the PRA (5 CFR 1320.4).
110 | Submit required information for BSEE to make a decision
114, 115(a) | Submit appeal on BSEE final decision

Estimated Reporting and Recordkeeping Non-Hour Cost Burden: The currently OMB approved non-hour cost burdens total $7,500. We have identified one non-hour cost burden for this collection. The BSEE requires that shippers pay a nonrefundable fee of $7,500 for a complaint submitted to BSEE. We have not identified any other non-hour cost burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment-including your personal identifying information—may be made publicly available at any time. While you can ask us in your comment to withhold your personal identifying information from public review, we cannot guarantee that we will be able to do so.

BSEE Information Collection Clearance Officer: Cheryl Blundon (703) 787-1607.

Dated: November 7, 2013.
Robert W. Middleton,
Deputy Chief, Office of Offshore Regulatory Programs.

[FR Doc. 2013-27532 Filed 11-15-13; 8:45 am]

BILLING CODE 4310-VH-P